DEPARTMENT OF TRANSPORTATION

Federal Aviation Administration

14 CFR Part 39

[Docket No. FAA-2014-0525; Directorate Identifier 2013-NM-235-AD; Amendment 39-18078; AD 2015-02-11]

RIN 2120-AA64

Airworthiness Directives; Airbus Airplanes

AGENCY: Federal Aviation Administration (FAA), Department of Transportation (DOT).

ACTION: Final rule.

SUMMARY: We are adopting a new airworthiness directive (AD) for certain Airbus Model A330-300, A340-200, and A340-300 series airplanes. This AD was prompted by a report of substantial inner skin disbonding damage found on a rudder. This AD requires performing an inspection for damage of certain rudders, and repair if necessary. We are issuing this AD to detect and correct damage of the rudder, which could result in reduced structural integrity of the rudder.

DATES: This AD becomes effective March 6, 2015.

The Director of the Federal Register approved the incorporation by reference of certain publications listed in this AD as of March 6, 2015.

ADDRESSES: You may examine the AD docket on the Internet at http://www.regulations.gov/#!docketDetail;D=FAA-2014-0525; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-300, A340-200, and A340-300 series airplanes. The NPRM published in the Federal Register on August 13, 2014 (79 FR 47387).

The European Aviation Safety Agency (EASA), which is the Technical Agent for the Member States of the European Union, has issued EASA Airworthiness Directive 2013-0270R1, dated November 27, 2013 (referred to after this as the Mandatory Continuing Airworthiness Information, or “the MCAI”), to correct an unsafe condition for Airbus Model A330-300, A340-200, and A340-300 series airplanes. The MCAI states:

One A310 operator found substantial inner skin disbonding damage on a rudder. The results of the subsequent investigation revealed that the most probable cause of this damage was a blunt impact with no visible damage from outside during the rudder handling. Such type of damage might grow with pressure variation during ground-air-ground cycles, and tests performed with other rudders showed a rapid propagation of damage during artificial pressure cycling.

This condition, if not detected and corrected, could affect the structural integrity of the rudder.

For the affected A310 and A300-600 aeroplanes, EASA issued AD 2013-0039 [http://ad.easa.europa.eu/blob/easa_ad_2013_0039.pdf/AD_2013-0039], to address and correct this potential unsafe condition.

As potentially affected rudders can also be installed on A330 and A340 aeroplanes, Airbus issued Alert Operator Transmission (AOT) A55L001-12 [dated December 20, 2012], pending Aircraft Maintenance Manual (AMM) 27-21-41 PB401 revision, to provide operators with updated rudder handling procedures.

EASA issued AD 2013-0270 [http://ad.easa.europa.eu/blob/easa_ad_2013_0270.pdf/AD_2013-0270], to require identification of affected rudders P/N [part number] A55471500XXX (where XXX stands for any numerical value), a one-time ultrasonic test (UT) inspection of each affected rudder to detect signs of disbonding and, depending on findings, accomplishment of applicable corrective action(s).

After [EASA] AD 2013-0270 was issued, operators commented that the batch of rudders to be inspected was not correctly defined.

For the reason described above, [EASA] AD 2013-0270 is revised to clarify that no action is required for rudders previously inspected in accordance with Airbus Service Bulletin (ASB) A330-55-3038 or SB A340-55-4034 [which are required by FAA AD 2009-10-11, Amendment 39-15907 (74 FR 23622, May 20, 2009)], as applicable to aeroplane model, provided the rudder has never been removed and/or installed on an aeroplane since this inspection.

Required actions include an elasticity of laminate checker inspection of the rudder side panel to detect external and internal disbonding, and a woodpecker or tap test inspection to detect external disbonding, and repair if necessary. You may examine the MCAI in the AD docket on the Internet at http://www.regulations.gov/#!documentDetail;D=FAA-2014-0525-0002.

Comments

We gave the public the opportunity to participate in developing this AD. The following presents the comment received on the NPRM (79 FR 47387, August 13, 2014) and the FAA's response.

Request To Correct Certain Document Numbers

Lufthansa Technik (Lufthansa) asked that we correct certain document numbers for the service information identified in paragraph (h) of the NPRM (79 FR 47387, August 13, 2014). Lufthansa stated that paragraph (h) of the NPRM incorrectly refers to Airbus Service Bulletins A300-55-3038 and A310-55-4034, instead of Airbus Service Bulletins A330-55-3038 and A340-55-4034, both dated November 7, 2007.

We agree with the commenter for the reason provided. We have corrected the document numbers for the service information identified in paragraph (h) of this AD accordingly.

Compliance Time Change

We revised the compliance time in paragraph (g) of this AD for the part numbers and serial numbers that cannot be identified from “before further flight” to “within 3 months after the effective date of this AD.” We have also revised the compliance time in paragraph (h) of this AD for the ultrasonic test inspection from “before further flight” to “within 3 months after the effective date of this AD.” This compliance time corresponds to the compliance time specified in the MCAI. We have determined this compliance time will provide an acceptable level of safety.

Conclusion

We reviewed the relevant data, considered the comment received, and determined that air safety and the public interest require adopting this AD with the changes described previously and minor editorial changes. We have determined that these minor changes:

• Are consistent with the intent that was proposed in the NPRM (79 FR 47387, August 13, 2014) for correcting the unsafe condition; and

• Do not add any additional burden upon the public than was already proposed in the NPRM (79 FR 47387, August 13, 2014).

Related Service Information

Airbus has issued Alert Operators Transmission A55L001-12, dated December 20, 2012. The service information describes procedures for an inspection for damage of certain rudders. You can find this information at http://www.regulations.gov by searching for and locating Docket No. FAA-2014-0525.

Costs of Compliance

We estimate that this AD affects 74 airplanes of U.S. registry.

We also estimate that it will take about 12 work-hours per product to comply with the basic requirements of this AD. The average labor rate is $85 per work-hour. Required parts will cost about $0 per product. Based on these figures, we estimate the cost of this AD on U.S. operators to be $75,480, or $1,020 per product.

We have received no definitive data that would enable us to provide a cost estimate for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0525; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-11 Airbus: Amendment 39-18078. Docket No. FAA-2014-0525; Directorate Identifier 2013-NM-235-AD.

(a) Effective Date

This AD becomes effective March 6, 2015.

(b) Affected ADs

None.

(c) Applicability

This AD applies to Airbus Model A330-301, -302, -303, -321, -322, -323, -341, -342, and -343 airplanes; and Model A340-211, -212, -213, -311, -312, and -313 airplanes; certificated in any category; except airplanes on which Airbus Modification 41800 has been embodied in production.

(d) Subject

Air Transport Association (ATA) of America Code 55, Stabilizers.

(e) Reason

This AD was prompted by a report of substantial inner skin disbonding damage on a rudder. We are issuing this AD to detect and correct damage of the rudder, which could result in reduced structural integrity of the rudder.

(f) Compliance

Comply with this AD within the compliance times specified, unless already done.

(g) Rudder Assembly Identification

Within 3 months after the effective date of this AD, inspect for the rudder assembly part number and serial number, in accordance with Airbus Alert Operators Transmission (AOT) A55L001-12, dated December 20, 2012. If the part number or serial number cannot be identified, within 3 months after the effective date of this AD, identify the part number and serial number using a method approved by the Manager, International Branch, ANM-116, Transport Airplane Directorate, FAA; or the European Aviation Safety Agency (EASA); or Airbus's EASA Design Organization Approval (DOA). If approved by the DOA, the approval must include the DOA-authorized signature.

(h) Inspection

If a rudder assembly having any part number starting with A55471500 or A55471500XXX (where XXX stands for any numerical value) is found during the inspection required by paragraph (g) of this AD, and that rudder assembly has been inspected before the effective date of this AD, as specified in Airbus Service Bulletin A330-55-3038, dated November 7, 2007 (which is not incorporated by reference in this AD); or Airbus Service Bulletin A340-55-4034, dated November 7, 2007 (which is not incorporated by reference in this AD); as applicable; and that rudder assembly has been removed and installed on any airplane after the inspection or that has been inspected off-wing: Within 3 months after the effective date of this AD, do an ultrasonic test inspection for damage (e.g., disbonding and liquid ingress) of the rudder side panel along the Z-profile and in the booster area, in accordance with Airbus AOT A55L001-12, dated December 20, 2012. If any damage is found, before further flight, do the inspections specified in paragraphs (h)(1) and (h)(2) of this AD to confirm disbonding damage, in accordance with Airbus AOT A55L001-12, dated December 20, 2012.

(1) Do an elasticity of laminate checker inspection to detect external and internal disbonding.

(2) Do a woodpecker or tap test inspection to detect external disbonding.

(i) Repair

If any disbonding or damage (e.g. liquid ingress) is confirmed during any inspection required by paragraphs (h), (h)(1), and (h)(2) of this AD, repair at the time specified in paragraph (i)(1), (i)(2), or (i)(3) of this AD, as applicable.

(1) If the disbonding is less than or equal to 50 millimeters (mm) in width and less than or equal to 150 mm in length: Before further flight, vent the rudder core using a method approved by the Manager, International Branch, ANM-116, Transport Airplane Directorate, FAA; or EASA; or Airbus's EASA DOA. Within 100 flight cycles after venting the rudder core, do a permanent repair using a method approved by the Manager, International Branch, ANM-116, Transport Airplane Directorate, FAA; or EASA; or Airbus's EASA DOA. If approved by the DOA, the approval for the venting and repair methods must include the DOA-authorized signature.

(2) If the disbonding is greater than 50 mm in width, or greater than 150 mm in length: Before further flight, repair using a method approved by the Manager, International Branch, ANM-116, Transport Airplane Directorate, FAA; or EASA; or Airbus's EASA DOA. If approved by the DOA, the approval must include the DOA-authorized signature.

(3) If any damage other than disbonding (e.g., liquid ingress) is confirmed during any inspection required by paragraph (h) of this AD, before further flight, repair, using a method approved by the Manager, International Branch, ANM-116, Transport Airplane Directorate, FAA; or EASA; or Airbus's EASA DOA. If approved by the DOA, the approval must include the DOA-authorized signature.

(j) Parts Installation Limitation

As of the effective date of this AD, you may install, on any airplane, a rudder assembly having part number A55471500XXX (where XXX stands for any numerical value), provided the inspection required by paragraph (h) of this AD and all applicable repair actions required by paragraph (i) of this AD are done before further flight.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(l) Related Information

(1) Refer to Mandatory Continuing Airworthiness Information (MCAI) EASA Airworthiness Directive 2013-0270R1, dated November 27, 2013, for related information. This MCAI may be found in the AD docket on the Internet at http://www.regulations.gov by searching for and locating Docket No. FAA-2014-0525.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A55L001-12, dated December 20, 2012, including Inspection Flow Chart AOpT ref.: A55L001-12, not dated. The document number and date of this document are identified on only the first page of this AOT.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 15, 2015.
John P. Piccola, Jr.,
Acting Manager, Transport Airplane Directorate, Aircraft Certification Service.

[FR Doc. 2015-01184 Filed 1-29-15; 8:45 am]

BILLING CODE 4910-13-P